DEPARTMENT OF COMMERCE

International Trade Administration

[A-428-801]

Antifriction Bearings (Other Than Tapered Roller Bearings) and Parts Thereof From Germany; Preliminary Results of Antidumping Duty New-Shipper Review

AGENCY: Import Administration, International Trade Administration, Department of Commerce.

ACTION: Notice of Preliminary Results of Antidumping Duty New-Shipper Review.

SUMMARY: In response to a request by MPT Präzisionsteile GmbH Mittweida, the Department of Commerce is conducting a new-shipper review of the antidumping duty order on antifriction bearings (other than tapered roller bearings) and parts thereof from Germany. The merchandise covered by this order is ball bearings and parts thereof. The period of review is May 1, 1998, through April 30, 1999.

We have preliminarily determined that sales have not been made below normal value by MPT Präzisionsteile GmbH Mittweida. If these preliminary results are adopted in the final results of this review, we will instruct the Customs Service to liquidate appropriate entries without regard to dumping duties.

We invite interested parties to comment on these preliminary results. Parties who submit comments in these proceedings are requested to submit with each argument (1) a statement of the issue and (2) a brief summary of the argument.

EFFECTIVE DATE: January 21, 2000.

FOR FURTHER INFORMATION CONTACT: Anne Copper or Robin Gray, Import Administration, International Trade Administration, U.S. Department of Commerce, 14th Street and Constitution Avenue, N.W., Washington, D.C. 20230; telephone: (202) 482-0090 or (202) 482-4023, respectively.

SUPPLEMENTARY INFORMATION:

The Applicable Statute

Unless otherwise indicated, all citations to the Tariff Act of 1930, as amended (the Act), are references to the provisions effective January 1, 1995, the effective date of the amendments made to the Act by the Uruguay Round Agreements Act. In addition, unless otherwise indicated, all citations to the Department of Commerce regulations are to 19 CFR Part 351 (1998).

Background

On May 25, 1999, MPT Präzisionsteile GmbH Mittweida (MPT) requested that the Department of Commerce (the Department) conduct a new-shipper review pursuant to section 751(a)(2)(B) of the Act and 19 CFR 351.214(b). In this request, MPT certified that it did not export the subject merchandise to the United States during the period (POI) covered by the original less-than-fair-value (LTFV) investigation and that it is not affiliated with any company which exported subject merchandise to the United States during the POI. Pursuant to 19 CFR 351.214(b)(2)(iv), MPT submitted documentation establishing the date on which it first entered subject merchandise for consumption into the United States, the volume of that shipment, and the date of the first sale to an unaffiliated customer in the United States. Based on the above information, the Department initiated a new-shipper review covering MPT (see Antifriction Bearings (Other Than Tapered Roller Bearings) and Parts Thereof from Germany: Initiation of New Shipper Antidumping Duty Review, 64 FR 40549 (July 27, 1999)). The Department is now conducting this review in accordance with section 751 of the Act and 19 CFR 351.214.

On July 28, 1999, we issued our questionnaire to MPT. We received a response to this questionnaire on September 2, 1999.

On September 24, 1999, we issued a supplemental questionnaire to MPT. We received a response to this questionnaire on October 8, 1999.

On November 1 through 3, 1999, the Department conducted verification of the data submitted by MPT, in accordance with section 782(i) of the Act and 19 CFR 351.307(b)(1)(iv).

Scope of Review

The merchandise covered by this review includes all antifriction bearings that employ balls as the rolling element. Imports of these products are classified under the following categories: antifriction balls, ball bearings with integral shafts, ball bearings (including radial ball bearings) and parts thereof, and housed or mounted ball bearing units and parts thereof.

Imports of these products are classified under the following Harmonized Tariff Schedules (HTS) subheadings: 3926.90.45, 4016.93.00, 4016.93.10, 4016.93.50, 6909.19.5010, 8431.20.00, 8431.39.0010, 8482.10.10, 8482.10.50, 8482.80.00, 8482.91.00, 8482.99.05, 8482.99.10, 8482.99.35, 8482.99.6590, 8482.99.70, 8483.20.40, 8483.20.80, 8483.50.8040, 8483.50.90, 8483.90.20, 8483.90.30, 8483.90.70, 8708.50.50, 8708.60.50, 8708.60.80, 8708.70.6060, 8708.70.8050, 8708.93.30, 8708.93.5000, 8708.93.6000, 8708.93.75, 8708.99.06, 8708.99.31, 8708.99.4960, 8708.99.50, 8708.99.5800, 8708.99.8080, 8803.10.00, 8803.20.00, 8803.30.00, 8803.90.30, and 8803.90.90.

The HTS item numbers are provided for convenience and customs purposes. They are not determinative of the products subject to the order. The written descriptions remain dispositive.

Size or precision grade of a bearing does not influence whether the bearing is covered by the order. This order covers all the subject bearings and parts thereof (inner race, outer race, cage, rollers, balls, seals, shields, etc.) outlined above with certain limitations. With regard to finished parts, all such parts are included in the scope of this order. For unfinished parts, such parts are included if (1) they have been heat-treated, or (2) heat treatment is not required to be performed on the part. Thus, the only unfinished parts that are not covered by this order are those that will be subject to heat treatment after importation.

The ultimate application of a bearing also does not influence whether the bearing is covered by the order. Bearings designed for highly specialized applications are not excluded. Any of the subject bearings, regardless of whether they may ultimately be utilized in aircraft, automobiles, or other equipment, are within the scopes of this order.

Period of Review

The period of review (POR) is May 1, 1998, through April 30, 1999.

United States Price

In calculating the price to the United States, we used export price (EP) as defined in section 772(a) of the Act because the subject merchandise was sold to an unaffiliated U.S. purchaser in the United States prior to the date of importation into the United States and the use of constructed export price was not indicated by the facts of record.

We calculated EP for U.S. sales based on ex-factory prices to the United States. We made adjustments for domestic inland freight from the plant to port of exit in accordance with section 772(c)(2)(A) of the Act. We used the invoice date as the date of sale for the U.S. market because this was the point at which the material terms of sale were determined.

No other adjustments to EP were claimed.

Normal Value

In order to determine whether there is a sufficient volume of sales in the home market to serve as a viable basis for calculating NV (i.e., the aggregate volume of home market sales of the foreign like product is five percent or more of the aggregate volume of U.S. sales), we compared the volume of MPT's home market sales of the foreign like product to the volume of U.S. sales of subject merchandise, in accordance with section 773(a)(1)(C) of the Act. Based on this comparison, we determined that MPT had a viable home market during the POR. Consequently, we based NV on home market sales.

For price-to-price comparisons, we based NV on ex-warehouse or delivered prices to home market customers. We made adjustments for packing and for movement expenses in accordance with section 773(a)(6)(A) and (B) of the Act. We made circumstances-of-sale adjustments by deducting home-market direct selling expenses, which included credit expenses and royalties, and by adding U.S. direct selling expenses. We also made billing adjustments and deducted early payment discounts. No other adjustments to NV were claimed.

Level of Trade

MPT made EP sales to unaffiliated customers in one customer category which was similar to the home market customer category with respect to selling functions. Therefore, we considered this category to constitute one level of trade and that level of trade to be the same as the level of trade found in the home market. Therefore, we have matched EP sales to sales in the home market and made no level-of-trade adjustment.

Preliminary Results of the Review

We preliminarily determine that a margin of 0.00 percent exists for MPT during the period May 1, 1998, through April 30, 1999.

The Department will disclose to parties the calculations performed in connection with these preliminary results within five days of the date of publication of this notice. Interested parties may request a hearing within 30 days of publication. Any hearing, if requested, will be held three days after the date rebuttal briefs are filed. Interested parties may submit case briefs not later than 30 days after the date of publication of this notice. Rebuttal briefs, limited to issues raised in the case briefs, may be filed not later than 35 days after the date of publication of this notice. The Department will issue the final results of this new shipper review, including the results of its analysis of issues raised in any such written comments, within 90 days of the issuance of these preliminary results.

Upon completion of the new-shipper review, the Department will issue appraisement instructions for the reviewed importations directly to the Customs Service.

Further, the following deposit requirements will be effective for all shipments of ball bearings from Germany entered, or withdrawn from warehouse, for consumption on or after the publication date of the final results of this new shipper review, as provided for by section 751(a)(2)(C) of the Act: (1) The cash deposit rate for the reviewed company will be the rate established in the final results of this review; (2) for previously investigated companies, the cash deposit rate will continue to be the company-specific rate published for the most recent period; (3) if the exporter is not a firm covered in this review, or the LTFV investigation, but the manufacturer is, the cash deposit rate will be the rate established for the most recent period for the manufacturer of the merchandise; and (4) the cash deposit rate for all other manufacturers or exporters will continue to be 68.89 percent, the all-others rate.

These deposit requirements, when imposed, shall remain in effect until publication of the final results of the next administrative review.

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

We are issuing and publishing this new-shipper review and notice in accordance with sections 751(a)(2)(B) and 777(i)(1) of the Act.

Dated: January 13, 2000.
Robert S. LaRussa,
Assistant Secretary for Import Administration.

[FR Doc. 00-1492 Filed 1-20-00; 8:45 am]

BILLING CODE 3510-DS-P